DEPARTMENT OF AGRICULTURE

Forest Service

Wrangell-Petersburg Resource Advisory Committee

AGENCY: Forest Service, USDA.

ACTION: Notice of meeting.

SUMMARY: The Wrangell-Petersburg Resource Advisory Committee will meet by video-teleconference in Wrangell, Alaska and Petersburg, Alaska. The committee is authorized under the Secure Rural Schools and Community Self-Determination Act (Pub. L. 110-343) (the Act) and operates in compliance with the Federal Advisory Committee Act. The purpose of the Committee is to improve collaborative relationships and to provide advice and recommendations to the Forest Service concerning projects and funding consistent with the title II of the Act. The meeting is open to the public. The purpose of the meeting is to share information regarding reauthorization of the Act, to review progress of previously funded projects, and to review the list of contingency projects that were approved but not funded in 2011. The Committee will also consider whether a new round of project proposals should be solicited.

DATES: The meeting will be held on Monday, August 20, 2012 from 1:00 p.m. to 5:00 p.m., or until business is concluded.

ADDRESSES: The meeting will be held at the Wrangell Ranger District office at 525 Bennett Street in Wrangell, Alaska, and the Petersburg Ranger District office at 12 North Nordic Drive in Petersburg, Alaska. Interested persons may attend in person at either location, or by telephone. A toll free teleconference number for those who wish to call in will be provided on request.

Written comments may be submitted as described under SUPPLEMENTARY INFORMATION. All comments, including names and addresses when provided, are placed in the record and are available for public inspection and copying. The public may inspect comments received at the Petersburg Ranger District office at 12 North Nordic Drive or the Wrangell Ranger District office at 525 Bennett Street during regular office hours (Monday through Friday 8 a.m.-4:30 p.m.).

FOR FURTHER INFORMATION CONTACT: Jason Anderson, Petersburg District Ranger, P.O. Box 1328, Petersburg, Alaska 99833, phone (907)772-3871, email jasonanderson@fs.fed.us, or Robert Dalrymple, Wrangell District Ranger, P.O. Box 51, Wrangell, Alaska 99929, phone (907)874-2323, email rdalrymple@fs.fed.us.

Individuals who use telecommunication devices for the deaf (TDD) may call the Federal Information Relay Service (FIRS) at 1-800-877-8339 between 8:00 a.m. and 8:00 p.m., Eastern Standard Time, Monday through Friday. Please make requests in advance for sign language interpreting, assistive listening devices or other reasonable accommodation for access to the facility or proceedings by contacting the person listed for FOR FURTHER INFORMATION CONTACT.

SUPPLEMENTARY INFORMATION: The following business will be conducted: updating the Committee regarding reauthorization of the Act, reviewing progress of previously funded projects, and reviewing the list of contingency projects that were approved but not funded in 2011. The Committee will also consider whether a new round of project proposals should be solicited. More information on this meeting, including a full agenda, is available online at https://fsplaces.fs.fed.us/fsfiles/unit/wo/secure_rural_schools.nsf/RAC/Wrangell-Petersburg?OpenDocument.

Anyone who would like to bring related matters to the attention of the Committee may file written statements with the Committee staff before or after the meeting. A one-hour public input session will be provided beginning at 3:00 p.m. Individuals wishing to make an oral statement should request in writing by August 13, 2012 to be scheduled on the agenda.

Written comments and requests for time for oral comments should be sent to Jason Anderson, Petersburg District Ranger, P.O. Box 1328, Petersburg, AK 99833, or Robert Dalrymple, Wrangell District Ranger, P.O. Box 51, Wrangell, AK 99929. Comments may also be sent via email to jasonanderson@fs.fed.us, or via facsimile to 907-772-5995. A summary of the meeting will be posted at https://fsplaces.fs.fed.us/fsfiles/unit/wo/secure_rural_schools.nsf/RAC/Wrangell-Petersburg?OpenDocument within 21 days of the meeting.

Dated: July 20, 2012.
Jason C. Anderson,
District Ranger.

[FR Doc. 2012-18613 Filed 7-30-12; 8:45 am]

BILLING CODE 3410-11-P